DEPARTMENT OF ENERGY

Federal Energy Regulatory Commission

[Docket No. AD17-10-000]

Agency Operations in the Absence of a Quorum; Notice of Termination of Delegation of Further Authority to Staff Due To Reestablishment of Quorum

1. By order issued February 3, 2017, in anticipation of a lack of a quorum, the Commission delegated further authority to its staff to take certain actions.¹ Such delegation was effective beginning February 4, 2017, and in no event was to extend beyond 14 days following the date a Commission quorum was reestablished.²

¹ Agency Operations in the Absence of a Quorum, 158 FERC 61,135 (2017).

² Id. P 2.

2. Take notice that a Commission quorum was reestablished on August 10, 2017, and, with the reestablishment of a Commission quorum, the Commission's delegation of further authority to its staff accordingly terminated on August 24, 2017.

Dated: August 25, 2017.
Kimberly D. Bose,
Secretary.

[FR Doc. 2017-18537 Filed 8-31-17; 8:45 am]

BILLING CODE 6717-01-P